DEPARTMENT OF HOMELAND SECURITY

Coast Guard

33 CFR Part 117

[Docket No. USCG-2013-0633]

Drawbridge Operation Regulation; Atlantic Intracoastal Waterway (AICW), Elizabeth River, Southern Branch, Chesapeake and Portsmouth, VA

AGENCY: Coast Guard, DHS.

ACTION: Notice of deviation from drawbridge regulation.

SUMMARY: The Coast Guard has issued a temporary deviation from the operating schedule that governs the operation of the Belt Line Railroad Bridge, across the Elizabeth River Southern Branch, AICW, mile 2.6, at Chesapeake and Portsmouth, VA. This deviation is necessary to facilitate mechanical and electrical upgrades on the Belt Line Railroad drawbridge. This temporary deviation allows the drawbridge to remain in the closed to navigation position.

DATES: This deviation is effective from 1 p.m. on August 12, 2013 to 7 p.m. on August 15, 2013.

ADDRESSES: The docket for this deviation, [USCG-2013-0633] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Barbara Hairston, Program Manager, Docket Operations, (202) 366-9826.

SUPPLEMENTARY INFORMATION: The Norfolk and Portsmouth Belt Line Railroad Company, who owns and operates this drawbridge, has requested a temporary deviation from the current operating regulations set out in 33 CFR 117.997(a) to facilitate replacement and update of the motor and drive system located in the bridge house.

Under the regular operating schedule, the Belt Line Railroad Bridge across the Elizabeth River Southern Branch, AICW mile 2.6, between Portsmouth and Chesapeake, VA, the draw normally is open and only closes for train crossings or periodic maintenance. The Belt Line Railroad Bridge has a vertical clearance in the closed to vessels position of 6 feet above mean high water.

Under this temporary deviation, the drawbridge will be maintained in the closed to navigation position, from 1 p.m. to 7 p.m., on Monday August 12, 2013 and each day from 8 a.m. to 7 p.m., on Tuesday, Wednesday, and Thursday, August 13, 14, and 15, 2013, respectively. The bridge will operate under its normal operating schedule at all other times. The bridge normally is maintained in the open to navigation position with several vessels transiting a week and only closes when trains transit. The Elizabeth River Southern Branch is used by a variety of vessels including military, tugs, commercial, and recreational vessels. The Coast Guard has carefully coordinated the restrictions with these waterway users.

Vessels able to pass under the bridge in the closed position may do so at anytime and are advised to proceed with caution. The bridge will be able to open for emergencies with a one hour advanced notification on marine channel 13 or calling 757-271-1741 or 757-633-2241. There is no immediate alternate route for vessels transiting this section of the Elizabeth River but vessels may pass before and after the closure each day. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the designated time period.

This deviation from the operating regulations is authorized under 33 CFR 117.35.

Dated: July 18, 2013.
Waverly W. Gregory, Jr.,
Bridge Program Manager, Fifth Coast Guard District.

[FR Doc. 2013-18226 Filed 7-29-13; 8:45 am]

BILLING CODE 9110-04-P